DEPARTMENT OF EDUCATION

Applications for New Awards; Nita M. Lowey 21st Century Community Learning Centers National Technical Assistance Center

AGENCY: Office of Elementary and Secondary Education, Department of Education.

ACTION: Notice.

SUMMARY: The Department of Education (Department) is issuing a notice inviting applications for fiscal year (FY) 2023 for the Nita M. Lowey 21st Century Community Learning Centers (21st CCLC) National Technical Assistance Center (NTAC), Assistance Listing Number 84.287E. This notice relates to the approved information collection under OMB control number 1894-0006.

DATES:

Applications Available: March 31, 2023.

Deadline for Notice of Intent to Apply: May 1, 2023.

Deadline for Transmittal of Applications: May 30, 2023.

Deadline for Intergovernmental Review: July 31, 2023.

Pre-Application Webinar Information: The Department will hold a pre-application meeting via webinar for prospective applicants. Once scheduled, the date and time for the webinar will be posted at https://oese.ed.gov/21st-cclc-national-technical-assistance-center-ntac/.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Julie Coplin, U.S. Department of Education, 400 Maryland Avenue SW, Washington, DC 20202. Telephone: (202) 987-1797. Email: 21stCCLC@ed.gov.

If you are deaf, hard of hearing, or have a speech disability and wish to access telecommunications relay services, please dial 7-1-1.

SUPPLEMENTARY INFORMATION:

Full Text of Announcement

I. Funding Opportunity Description

Purpose of Program: The purpose of this discretionary grant is to create the 21st CCLC NTAC, which will support State educational agencies (SEAs) and their subgrantees that operate 21st CCLC programs.

Background: The 21st CCLC program provides essential out-of-school time learning that helps accelerate academic recovery and support students' social, emotional, and mental health. While out-of-school time opportunities are always essential, they have been especially critical as students continue to recover from the impacts of the COVID-19 pandemic. The 21st CCLC NTAC will help 21st CCLC grantees and subgrantees provide effective out-of-school time opportunities that have the biggest possible positive impact in students' lives.

Out-of-school time programming can be a key to success when programs are evidence-based and effective. For example, available evidence ¹ suggests that tutoring is especially helpful when tutors are well-trained, offer high-dosage tutoring, and are providing instruction and enrichment that is evidence-based and culturally and linguistically responsive. Practices that support student learning in the classroom are also important in tutoring, and the 21st CCLC NTAC will assist SEAs and 21st CCLC subgrantees in identifying and using evidence-based approaches and in providing professional development to educators, tutors, mentors, and others who support students.

¹ Nickow, A., Oreopoulos, P., & Quan, V. (2020, July). The Impressive Effects of Tutoring on PreK-12 Learning: A Systematic Review and Meta-Analysis of the Experimental Evidence. EdWorkingPaper: 20-267. Retrieved from Annenberg Institute at Brown University: https://doi.org/10.26300/eh0c-pc52.

The work the 21st CCLC NTAC will do is aligned with other key Department initiatives that are supporting access to urgently needed out-of-school time programming. For example, the Department launched the National Partnership for Student Success, a public-private partnership, to help increase the number of tutors, mentors, student success coaches, postsecondary transition coaches, and integrated student support coordinators to help students get back on track. (See https://sites.ed.gov/cfbnp/national-partnership-for-student-success-launched/ for additional information.) In addition, the Department launched the Engage Every Student initiative to help expand high-quality out-of-school time learning opportunities, including those in 21st CCLCs. (See https://www.ed.gov/ost for additional information.) The Department has also encouraged State and local leaders to partner with AmeriCorps, including by clarifying that Department funds may be used to meet AmeriCorps matching requirements. (See https://www2.ed.gov/policy/fund/guid/americorps-matching-letter.pdf?src=grants-page for additional information.) AmeriCorps members may in turn serve as tutors, mentors, and student success coaches; assist with additional administrative responsibilities resulting from the pandemic; and provide creative enrichment opportunities, including by collaborating with 21st CCLCs.

21st CCLCs provide academic enrichment opportunities during non-school hours for students attending high-poverty, low-performing schools. The Department allocates 21st CCLC funds to SEAs that, in turn, award competitive subgrants to various entities to provide 21st CCLC programs. The awardee of this grant will work collaboratively with the Department to: (a) identify needs of SEAs and 21st CCLC subgrantees, (b) provide best practices in program implementation, (c) develop technical assistance opportunities and tools, and (d) implement supports using a continuous improvement approach. The grantee will build the capacity of SEAs and their 21st CCLC subgrantees through communities of practice and the development of tools, webinars, resources, and courses that will be disseminated through a web portal in English, with a subset translated into Spanish, to support independent, self-paced learning. The Department also will house materials from the 21st CCLC Summer Symposium and annual meetings with SEA 21st CCLC directors on the portal. Members of the public will have access to the portal, although there will be a separate login for SEAs and 21st CCLC subgrantees. The grantee will develop and disseminate a monthly newsletter that will share recently developed products (e.g., webinars, resources, tools) and announce opportunities to participate in a variety of convenings.

The 21st CCLC NTAC will initially focus on: (a) students' academic and mental health needs and alignment with the traditional school day (e.g., literacy, math, overall well-being); (b) academic recovery (e.g., acceleration, high-dosage tutoring); (c) science, technology, engineering, and mathematics (STEM) activities; (d) providing 21st CCLC programming in rural areas; (e) improving attendance and student engagement of middle and high school students; (f) re-engagement of disengaged youth; (g) implementation and evaluation of 21st CCLC programs; (h) supporting multilingual learners; (i) financial literacy; (j) supporting discretionary grants funded with 21st CCLC funds, including the Department's four current 21st CCLC Out-of-School Time Career Pathways grants; and (k) any other priority areas mutually identified by the grantee and the Department through annual service plans. In addition, the 21st CCLC NTAC will provide sessions and resources to support SEAs and their 21st CCLC subgrantees in the development and implementation of robust 21st CCLC programs. The grantee will periodically gather data from SEAs and a sample of 21st CCLC subgrantees, as well as the Department, to determine its activities and to plan its technical assistance using a multi-tiered system of supports and/or a multi-session series that incorporates principles of adult learning, resulting in improved systems and processes for SEAs and 21st CCLC subgrantees.

Upon award of this grant, the grantee will enter into a cooperative agreement with the Department that will set forth how the 21st CCLC NTAC will be developed, managed, and evaluated. As part of the cooperative agreement, the grantee will submit a plan to the Department for its review and approval that, for each year of the grant, lays out its technical assistance plan, focusing on technical assistance to individual SEAs, groups of SEAs (and possibly including 21st CCLC subgrantees), and to the 21st CCLC field at large.

Priorities:

This notice contains one absolute priority and three competitive preference priorities. We are establishing the Absolute Priority for the FY 2023 grant competition and any subsequent year in which we make awards from the list of unfunded applications from this competition, in accordance with section 437(d)(1) of the General Education Provisions Act (GEPA), 20 U.S.C. 1232(d)(1). Competitive Preference Priorities 1, 2, and 3 are from the Secretary's Supplemental Priorities and Definitions for Discretionary Grant Programs, published in the Federal Register on December 10, 2021 (86 FR 70612) (Supplemental Priorities).

Absolute Priority: This priority is an absolute priority. Under 34 CFR 75.105(c)(3) we consider only applications that meet this priority.

This priority is:

Building Capacity in 21st CCLC Programs.

The 21st CCLC NTAC must provide high-quality, universal and targeted capacity-building services to SEAs and 21st CCLC subgrantees to address common implementation challenges facing SEAs and 21st CCLC subgrantees and emerging trends in out-of-school time settings. The initial set of proposed activities must focus on (a) students' academic and mental health needs and alignment with the traditional school day (e.g., literacy, math, overall well-being); (b) academic recovery (e.g., acceleration, high-dosage tutoring); (c) STEM activities; (d) providing 21st CCLC programming in rural areas; (e) improving attendance and student engagement of middle and high school students; (f) re-engagement of disengaged youth; (g) implementation and evaluation of 21st CCLC programs; (h) supporting multilingual learners; (i) financial literacy; (j) supporting discretionary grants funded with 21st CCLC funds, including the Department's four current 21st CCLC Out-of-School Time Career Pathways grants; and (k) any other priority areas mutually identified by the grantee and the Department through annual service plans.

Competitive Preference Priorities: These priorities are competitive preference priorities. Under 34 CFR 75.105(c)(2)(i), we award up to an additional 15 points total to an application, depending on how well the application meets these priorities. An applicant must clearly indicate in the abstract section of its application which competitive preference priority or priorities it addresses.

Competitive Preference Priority 1: Addressing the Impact of COVID-19 on Students, Educators, and Faculty (up to 5 points).

Projects that are designed to address the impacts of the COVID-19 pandemic, including impacts that extend beyond the duration of the pandemic itself, on the students most impacted by the pandemic, with a focus on underserved students and the educators who serve them, both priority areas:

(a) Providing resources and supports to meet the basic, fundamental, health and safety needs of students and educators.

(b) Addressing students' social, emotional, mental health, and academic needs through approaches that are inclusive with regard to race, ethnicity, culture, language, and disability status.

Competitive Preference Priority 2: Promoting Equity in Student Access to Educational Resources and Opportunities (up to 5 points).—

Projects that are designed to promote educational equity and adequacy in student access to educational resources and opportunities for underserved students:

(a) In out-of-school-time settings; and

(b) That examine the sources of inequity and inadequacy and implement responses, by increasing student racial or socioeconomic diversity through developing evidence related to, or providing technical assistance on, evidence-based policies or strategies designed to increase inclusivity with regard to race, ethnicity, culture, language, and disability status.

Competitive Preference Priority 3: Meeting Student Social, Emotional, and Academic Needs (up to 5 points).

Projects that are designed to improve students' social, emotional, academic, and career development, with a focus on underserved students, through both of the following priority areas:

(a) Providing multi-tiered systems of supports that address learning barriers both in and out of the classroom, that enable healthy development and respond to students' needs and which may include evidence-based trauma-informed practices and professional development for educators on avoiding deficit-based approaches.

(b) Preparing educators to implement project-based or experiential learning opportunities for students to strengthen their metacognitive skills, self-direction, self-efficacy, competency, or motivation, including through instruction that: Connects to students' prior knowledge and experience; provides rich, engaging, complex, and motivating tasks; and offers opportunities for collaborative learning.

Application Requirements:

(1) Explain how the grantee's program design will create high-quality technical assistance for SEAs and 21st CCLC subgrantees in their work with targeted student populations and how the grantee will develop and implement a continuous improvement cycle to support the work.

(2) Describe how the grantee's project services will be carried out using a multi-tiered system of support to provide technical assistance virtually and onsite.

(3) Demonstrate expert knowledge of statutory requirements and regulations related to Title IV, Part B of the Elementary and Secondary Education Act of 1965 (ESEA) and current education issues and policy initiatives for supporting the implementation and scaling of evidence-based programs, practices, and interventions related to out-of-school time programming.

(4) Describe the current research on adult learning principles, coaching, and implementation science that will inform the applicant's capacity-building services.

(5) Present a proposed 5-year service plan that considers commonalities identified in final Department monitoring reports for 21st CCLC, implementation challenges faced by SEAs and 21st CCLC subgrantees, and emerging trends in out-of-school time settings. The 5-year service plan must include for each year, at a minimum, the following elements: high-leverage problems to be addressed, capacity-building services to be delivered both universally and through targeted assistance to SEAs and 21st CCLC subgrantees, key personnel responsible, milestones, outputs, and outcome measures.

(6) Present a proposed evaluation plan that describes the criteria for whether (a) milestones are met, (b) outputs are met, (c) SEA and 21st CCLC subgrantee outcomes (i.e., short-term, mid-term, long-term) are met, and (d) capacity-building services are implemented as intended.

(7) A description of the applicant's demonstrated experience in providing training, information, and support to SEAs, local educational agencies (LEAs), schools, educators, parents, and organizations on effective out-of-school time policies and practices.

Program Requirements:

(1) Develop a service plan annually in consultation with the Department. The service plan must consider commonalities identified in finalized Department monitoring report findings in 21st CCLC programs, implementation challenges faced by SEAs and 21st CCLC subgrantees, and emerging trends in out-of-school time settings. The annual service plan must be an update to the 5-year plan submitted as part of the 21st CCLC NTAC's application. The annual service plan must include, at a minimum, the following elements: high-leverage problems to be addressed, capacity-building services to be delivered both universally and through targeted assistance to individual SEAs and 21st CCLC subgrantees, key personnel responsible, milestones, outputs, and outcome measures.

(2) Create and maintain the 21st CCLC NTAC website with an easy-to-navigate design that meets government or industry-recognized standards for accessibility.

(3) Obtain and retain education practitioners, researchers, policy professionals, and other consultants with direct experience with out-of-school time programs at the State and local level. Personnel must have a proven record of publishing in peer-reviewed journals, presenting at national conferences, and/or delivering quality adult learning experiences that meet SEA and 21st CCLC subgrantees' needs.

(4) Disseminate information (e.g., instructional videos, tool kits, and briefs) including evidence-based practices to a variety of education stakeholders, including parents, students, and the general public, via multiple mechanisms such as the 21st CCLC NTAC website, social media, and other channels as appropriate.

(5) Assemble a Technical Assistance Advisory Committee (TAAC) consisting of SEAs and 21st CCLC subgrantees to work collaboratively on education strategies in out-of-school settings and implementation practices at least twice per year.

(6) Employ one full-time equivalent (FTE) project director who is capable of managing all aspects of the 21st CCLC NTAC.

(7) Within 90 days of receiving funding, demonstrate that any necessary contractors to assist in carrying out the proposed services have been secured, to the extent contractors are needed.

Definitions: For the FY 2023 grant competition and any subsequent year in which we make awards from the list of unfunded applications from this competition, the definition of “evidence-based” is from section 8101(21) of the ESEA, and the definition of “underserved student” is from the Supplemental Priorities.

Evidence-based means an activity, strategy, or intervention that—

(i) demonstrates a statistically significant effect on improving student outcomes or other relevant outcomes based on—

(I) strong evidence from at least 1 well-designed and well-implemented experimental study;

(II) moderate evidence from at least 1 well-designed and well-implemented quasi-experimental study; or

(III) promising evidence from at least 1 well-designed and well-implemented correlational study with statistical controls for selection bias; or

(ii)(I) demonstrates a rationale based on high-quality research findings or positive evaluation that such activity, strategy, or intervention is likely to improve student outcomes or other relevant outcomes; and

(II) includes ongoing efforts to examine the effects of such activity, strategy, or intervention.

Underserved student means a student (which may include children in early learning environments, students in K-12 programs, and students in career and technical education, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student performing significantly below grade level.

(p) A military- or veteran-connected student.

Waiver of Proposed Rulemaking: Under the Administrative Procedure Act (5 U.S.C. 553), the Department generally offers interested parties the opportunity to comment on proposed priorities and application requirements. Section 437(d)(1) of GEPA, however, allows the Secretary to exempt from rulemaking requirements regulations governing the first grant competition under a new or substantially revised program authority. This is the first grant competition for this program under section 4202(a)(2) of the ESEA, and therefore qualifies for this exemption. In order to ensure timely grant awards, the Secretary has decided to forgo public comment on the priorities and requirements under section 437(d)(1) of GEPA. These priorities and requirements will apply to the FY 2023 grant competition and any subsequent year in which we make awards from the list of unfunded applications from this competition.

Program Authority: 20 U.S.C. 7172(a)(2).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Cooperative Agreement.

Estimated Available Funds: $4,600,000 in FY 2023 and $4,100,000 in each subsequent fiscal year.

Maximum Award: We will not make an award exceeding $4,600,000 for a single 12-month budget period.

Estimated Number of Awards: 1.

Note: The Department is not bound by any estimates in this notice.

Project Period: Up to 60 months.

III. Eligibility Information

1. Eligible Applicants: Research organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 75 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

5. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210. The maximum score for addressing all of these criteria is 100 points. The maximum score for addressing each criterion is indicated in parentheses.

(a) Quality of the project design (20 points).

The Secretary considers the quality of the design of the proposed project. In determining the quality of the design of the proposed project, the Secretary considers one or more of the following factors:

(1) The extent to which the design of the proposed project is appropriate to, and will successfully address, the needs of the target population or other identified needs.

(2) The extent to which there is a conceptual framework underlying the proposed research or demonstration activities and the quality of that framework.

(3) The extent to which performance feedback and continuous improvement are integral to the design of the proposed project.

(b) Quality of project services (30 points).

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability.

In addition, the Secretary considers one or more of the following factors:

(1) The extent to which the services to be provided by the proposed project are appropriate to the needs of the intended recipients or beneficiaries of those services.

(2) The extent to which the services to be provided by the proposed project reflect up-to-date knowledge from research and effective practice.

(3) The extent to which the training or professional development services to be provided by the proposed project are of sufficient quality, intensity, and duration to lead to improvements in practice among the recipients of those services.

(4) The likelihood that the services to be provided by the proposed project will lead to improvements in the achievement of students as measured against rigorous academic standards.

(c) Quality of project personnel (20 points).

The Secretary considers the quality of the personnel who will carry out the proposed project. In determining the quality of project personnel, the Secretary considers the extent to which the applicant encourages applications for employment from persons who are members of groups that have traditionally been underrepresented based on race, color, national origin, gender, age, or disability.

In addition, the Secretary considers one or more of the following factors:

(1) The qualifications, including relevant training and experience, of the project director or principal investigator.

(2) The qualifications, including relevant training and experience, of key project personnel.

(3) The qualifications, including relevant training and experience, of project consultants or subcontractors.

(d) Quality of the management plan (25 points).

The Secretary considers the quality of the management plan for the proposed project. In determining the quality of the management plan for the proposed project, the Secretary considers one or more of the following factors:

(1) The adequacy of the management plan to achieve the objectives of the proposed project on time and within budget, including clearly defined responsibilities, timelines, and milestones for accomplishing project tasks.

(2) The adequacy of procedures for ensuring feedback and continuous improvement in the operation of the proposed project.

(3) The adequacy of mechanisms for ensuring high-quality products and services from the proposed project.

(4) The extent to which the time commitments of the project director and principal investigator and other key project personnel are appropriate and adequate to meet the objectives of the proposed project.

(e) Quality of the project evaluation (5 points).

The Secretary considers the quality of the evaluation to be conducted of the proposed project. In determining the quality of the evaluation, the Secretary considers the extent to which the methods of evaluation provide for examining the effectiveness of project implementation strategies.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

6. Build America, Buy America Act: This program is not subject to the Build America, Buy America Act (Pub. L. 117-58) domestic sourcing requirements.

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established the following performance measures for the 21st CCLC NTAC program:

Measure 1: The percentage of 21st CCLC subgrantees reporting that the 21st CCLC NTAC resources were useful and applicable to their work, as evidenced by surveys.

Measure 2: The percentage of SEAs reporting that they are satisfied with the quality, usefulness, and relevance of technical assistance provided by the 21st CCLC NTAC, as evidenced by surveys.

Measure 3: The percentage of SEAs and 21st CCLC subgrantees that report changed policies or practices as a result of the technical assistance provided by the 21st CCLC NTAC, as evidenced by surveys.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, Braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Senior Advisor, Office of the Secretary Delegated the Authority to Perform the Functions and Duties of the Assistant Secretary, Office of Elementary and Secondary Education.

[FR Doc. 2023-06681 Filed 3-30-23; 8:45 am]

BILLING CODE 4000-01-P